DEPARTMENT OF ENERGY

Federal Energy Regulatory Commission

Public Utility District No. 2 of Grant Project No. P-2114-116; County Washington; Errata Notice

December 12, 2003.

On November 3, 2003, the Commission issued a “Notice of Application Tendered for Filing with the Commission, Soliciting Additional Study Requests, and Establishing Procedural Schedule for Relicensing and a Deadline for Submission of Final Amendments” in the above-referenced proceeding.

Item “1.” of the referenced Notice read “Deadline for filing additional study requests and requests for agency cooperating status: December 22, 2003.” The date should have been: December 29, 2003.

Magalie R. Salas,
Secretary.

[FR Doc. E3-00592 Filed 12-17-03; 8:45 am]

BILLING CODE 6717-01-P